SECURITIES AND EXCHANGE COMMISSION

[Release No. 34-94538; File No. SR-DTC-2021-014]

Self-Regulatory Organizations; The Depository Trust Company; Notice of Withdrawal of a Proposed Rule Change To Provide Settlement Services for Transactions Entered Into Under the Proposed Securities Financing Transaction Clearing Service of the National Securities Clearing Corporation

March 29, 2022.

On July 22, 2021, The Depository Trust Company (“DTC”) filed with the Securities and Exchange Commission (“Commission”) proposed rule change SR-DTC-2021-014 (“Proposed Rule Change”) pursuant to Section 19(b)(1) of the Securities Exchange Act of 1934 (“Act”) ¹ and Rule 19b-4 thereunder.² The Proposed Rule Change was published for comment in the Federal Register on August 11, 2021.³

¹ 15 U.S.C. 78s(b)(1).

² 17 CFR 240.19b-4.

³ Securities Exchange Act Release No. 92572 (August 5, 2021), 86 FR 44077 (August 11, 2021) (SR-DTC-2021-014).

On September 2, 2021, pursuant to Section 19(b)(2) of the Act,⁴ the Commission designated a longer period within which to approve, disapprove, or institute proceedings to determine whether to approve or disapprove the Proposed Rule Change.⁵ On November 5, 2021, the Commission instituted proceedings pursuant to Section 19(b)(2)(B) of the Act,⁶ to determine whether to approve or disapprove the Proposed Rule Change.⁷ On February 7, 2022, pursuant to Section 19(b)(2) of the Act,⁸ the Commission designated a longer period for Commission action on the proceedings to determine whether to approve or disapprove the Proposed Rule Change.⁹

⁴ 15 U.S.C. 78s(b)(2).

⁵ Securities Exchange Act Release No. 92861 (September 2, 2021), 86 FR 50570 (September 9, 2021) (SR-DTC-2021-014).

⁶ 15 U.S.C. 78s(b)(2)(B).

⁷ Securities Exchange Act Release No. 93533 (November 5, 2021), 86 FR 62853 (November 12, 2021) (SR-DTC-2021-014).

⁸ 15 U.S.C. 78s(b)(2).

⁹ Securities Exchange Act Release No. 94167 (February 7, 2022), 87 FR 8061 (February 11, 2022) (SR-DTC-2021-014).

On March 25, 2022, DTC withdrew the Proposed Rule Change (SR-DTC-2021-014).

¹⁰ 17 CFR 200.30-3(a)(12).

For the Commission, by the Division of Trading and Markets, pursuant to delegated authority.¹⁰
J. Matthew DeLesDernier,
Assistant Secretary.

[FR Doc. 2022-06985 Filed 4-1-22; 8:45 am]

BILLING CODE 8011-01-P